DEPARTMENT OF THE INTERIOR

Bureau of Land Management

[LLNM920000 212L1109AF L13100000.PP0000]

Notice of Proposed Reinstatement of Terminated Oil and Gas Leases NMNM 117118, NMNM 112270, NMNM 112271, NMNM 113394, NMNM 137424, NMNM 137425, NMNM 137426, NMNM 137427, NMNM 137428, NMNM 137431, NMNM 137481, NMNM 119745, NMNM 130865, NMNM 137440, NMNM 137441, NMNM 137442, NMNM 137443, NMNM 137459, New Mexico

AGENCY: Bureau of Land Management, Interior.

ACTION: Notice.

SUMMARY: In accordance with the Mineral Leasing Act of 1920 as amended, Chevron USA, Inc. (NMNM 117118), WTG Exploration, Inc. (NMNM 112270, NMNM 112271), OXY Y-1 Company and Tap Rock Resources, LLC (NMNM 113394), Federal Abstract Co. (NMNM 137424, NMNM 137425, NMNM 137426, NMNM 137427, NMNM 137428, NMNM 137431, NMNM 137440, NMNM 137441, NMNM 137442, NMNM 137443), Blackbeard Operating, LLC (NMNM 137481), St. Devote, LLC (NMNM 119745), Platform Energy III, LLC (NMNM 130865), and Slash Exploration, LP (NMNM 137459) timely filed a petition for reinstatement of competitive oil and gas leases NMNM 117118, NMNM 112270, NMNM 112271, NMNM 113394, NMNM 137424, NMNM 137425, NMNM 137426, NMNM 137427, NMNM 137428, NMNM 137431, NMNM 119745, NMNM 130865 in Eddy, Lea, Chaves, and Roosevelt counties, New Mexico. The lessees paid the required rentals accruing from the date of termination. No leases were issued that affect these lands. The Bureau of Land Management proposes to reinstate these leases.

FOR FURTHER INFORMATION CONTACT: Julieann Serrano, Supervisory Land Law Examiner, Branch of Adjudication, Bureau of Land Management New Mexico State Office, 301 Dinosaur Trail, Santa Fe, New Mexico 87508, (505) 954-2149, jserrano@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The lessees agree to new lease terms for rentals and royalties of $10 per acre, or fraction thereof, per year, and 16⅔ percent, respectively. The lessees agree to additional or amended stipulations. The lessees paid the $500 administration fee for the reinstatement of the leases and $159 cost for publishing this Notice.

The lessees met the requirements for reinstatement of the lease per Sec. 31(d) and (e) of the Mineral Leasing Act of 1920. The BLM is proposing to reinstate the leases, effective the date of termination subject to the:

• Original terms and conditions of the lease;

• Additional and amended stipulations;

• Increased rental of $10 per acre;

• Increased royalty of 16⅔ percent; and

• $159 cost of publishing this Notice.

Authority: 43 CFR 3108.2-3.

Julieann Serrano,
Supervisory Land Law Examiner.

[FR Doc. 2021-27270 Filed 12-15-21; 8:45 am]

BILLING CODE 4310-FB-P